DEPARTMENT OF THE INTERIOR

Office of the Secretary

[GWCRC Meeting Notice No. 2-03]

Guam War Claims Review Commission; Meeting

The Guam War Claims Review Commission, pursuant to section 10 of the Federal Advisory Committee Act (5 U.S.C. App. 10) and the Government in the Sunshine Act (5 U.S.C. 552b), hereby gives notice in regard to the scheduling of meetings for the transaction of Commission business, as follows:

Date and Time: Wednesday, November 5, 2003, 5 p.m., Eastern Standard Time.

Subject Matter: (1) Approval of minutes of Commission meeting of October 3, 2003; (2) Planning for public hearings scheduled to be held on Guam on December 8 and 9, 2003, including appointment of additional staff, travel and accommodations arrangements, and contracting for services; (3) Progress achieved in locating records on claims under the Guam Meritorious Claims Act, the Philippine Rehabilitation Act, and the War Claims Act.

Status: Open.

This meeting will be held in the form of a telephone conference call among the five members of the Commission and its Executive Director, Designated Federal Official, and other staff. Members of the public interested in observing the meeting may do so in the hearing room of the Foreign Claims Settlement Commission of the United States, 600 E Street, NW., Room 6002, Washington, DC. Requests for information, and advance notices of intention to observe the meeting, should be directed to: David Bradley, Executive Director, Guam War Claims Review Commission, c/o Foreign Claims Settlement Commission of the United States, Washington DC 20579, Tel. (202) 616-6975, FAX (202) 616-6993.

Dated at Washington, DC, October 24, 2003.
Mauricio J. Tamargo,
Chairman.

[FR Doc. 03-27337 Filed 10-28-03; 8:45 am]

BILLING CODE 4310-93-P